DEPARTMENT OF THE INTERIOR

Bureau of Land Management

[A2407-014-004-065516; #O2509-014-004-125222; AKAK106592146]

Application for a Recordable Disclaimer of Interest for Lands Underlying Portions of the West Fork of the Dennison Fork and the Dennison Fork of the Fortymile River in Alaska

AGENCY: Bureau of Land Management, Interior.

ACTION: Notice of application.

SUMMARY: On May 28, 2019, the State of Alaska (State) finalized an application with the Bureau of Land Management (BLM) for a Recordable Disclaimer of Interest (RDI) from the United States for the submerged lands underlying portions of the West Fork Dennison Fork and the Dennison Fork of the Fortymile River, south of Chicken, Alaska. An RDI, if issued, would disclaim the United States' interest in the lands underlying the portions of the waterbodies in the RDI application. This notice is to notify the public of the pending RDI application and supporting evidence submitted by the State, and that the BLM is seeking additional information related to the waterbodies in the application.

DATES: All comments should be received on or before February 5, 2026. The BLM will issue a decision on the application on or after April 7, 2026.

ADDRESSES: The State's RDI application and its attachments may be viewed at: https://www.blm.gov/programs/lands-and-realty/regional-information/alaska/RDI/fortymile, under the section titled, “West Fork of the Dennison Fork and the Dennison Fork of the Fortymile River.” Public comments may be mailed, emailed, or hand delivered. Mail comments to: Bureau of Land Management, ATTN: Bettie Shelby, Acting Branch Chief, Lands and Realty (AK-941), 222 West 7th Avenue #13, Anchorage, Alaska 99513; email comments to bshelby@blm.gov; or hand deliver comments during normal business hours (8 a.m. to 4 p.m. Alaska Time) to the BLM Public Information Center, 222 West 7th Avenue, Anchorage, Alaska 99513.

FOR FURTHER INFORMATION CONTACT: Bettie Shelby, Acting Branch Chief, Lands and Realty (AK-941), at 222 West 7th Avenue, #13, Anchorage, Alaska 99513; 907-271-5596; bshelby@blm.gov; or visit the BLM's RDI website at https://www.blm.gov/programs/lands-and-realty/regional-information/alaska/RDI. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On May 28, 2019, the State filed a final application (FF-97491) for an RDI pursuant to section 315 of the Federal Land Policy and Management Act of 1976 as amended (43 U.S.C. 1745), and the regulations in 43 CFR subpart 1864, which authorize the BLM to issue an RDI. An RDI is a legal document through which the BLM would disclaim the United States' interest in or ownership of specified lands. This notice of application is to inform the public of the pending application and the State's supporting evidence, as well as to provide the opportunity to comment or provide additional information to the BLM.

The State's RDI application asserts that the waterbodies were navigable in fact on the date of Alaska Statehood, January 3, 1959. As such, the application contends that ownership of the submerged lands underlying the West Fork of the Dennison Fork and the Dennison Fork of the Fortymile River automatically passed from the United States to the State on the date of Statehood under the Equal Footing Doctrine, the Submerged Lands Act of 1953, the Submerged Lands Act of 1988, the Alaska Right of Way Act of 1898, Alaska Statehood Act, and other title navigability laws.

The RDI application includes approximately 425 acres of submerged lands for the following land descriptions: (1) The West Fork of the Dennison Fork: All submerged lands between the ordinary high-water lines of the left and right banks of the West Fork of the Dennison Fork from the boundary of the Fortymile Wild and Scenic River Corridor within sec. 16, T. 24 N., R. 16 E., Copper River Meridian, Alaska (C.R.M.), downstream to the confluence with the Dennison Fork of the Fortymile River within sec. 34, T. 25 N., R. 17 E., C.R.M.; and (2) The Dennison Fork of the Fortymile River: All submerged lands between the ordinary high water lines of the left and right banks of Dennison Fork from the confluence with the West Fork of the Dennison Fork within sec. 34, T. 25 N., R. 17 E., C.R.M., downstream to the confluence of the Mosquito and Dennison Forks of the Fortymile River within sec. 8, T. 26 N., R. 18 E., C.R.M.

The BLM is seeking additional information related to the waterbodies in the State's RDI application. Examples of additional information are photographs or videos capturing boats being used on the waterbodies, historical or present-day use diaries, or specific verbal knowledge, whether passed down through the region, or present-day use, information on the type of boat or watercraft used, and information on the time of year boats are, or were, used. In addition to boat use, the BLM is seeking hydrological data and/or photographs that capture waterbody characteristics such as depth, width, obstructions or obstacles, or shallow stream sections.

In previous Federal Register notices regarding RDI applications, the BLM provided a 90-day public comment period. The BLM determined that 30 days is adequate and sufficient time under the circumstances to receive substantive and relevant public input as is permitted under 43 CFR subpart 1864.2. Additionally, a 30-day public comment period provides the BLM with a minimum of 60 days to review comments received before making a decision on the application on or after 90 days from the date of publication in the Federal Register.

Copies of the State's RDI application and comments provided in response to this notice will be available for public review at the BLM Alaska State Office (see ADDRESSES earlier), during regular business hours, 8 a.m. to 4 p.m. Alaska Time, Monday through Friday, excepting Federal holidays.

Before including your address, phone number, email address, or other personally identifying information in your comment, you should be aware that your entire comment—including your personally identifying information—may be made publicly available at any time. While you can ask the BLM in your comment to withhold your personally identifying information from public review, we cannot guarantee that we will be able to do so.

(Authority: 43 U.S.C. 1745 and 43 CFR subpart 1864)

Bettie Shelby,
Acting Deputy State Director, Division of Lands and Cadastral.

[FR Doc. 2026-00030 Filed 1-6-26; 8:45 am]

BILLING CODE 4331-10-P